DEPARTMENT OF HEALTH AND HUMAN SERVICES

Administration on Aging

Agency Information Collection Activities; Proposed Collection; Comment Request; National Survey of Older Americans Act Title III Service Recipients

AGENCY: Administration on Aging, HHS.

ACTION: Notice.

SUMMARY: The Administration on Aging (AoA) is announcing an opportunity for public comment on the proposed collection of certain information by the agency. Under the Paperwork Reduction Act of 1995 (the PRA), Federal agencies are required to publish notice in the Federal Register concerning each proposed collection of information, including each proposed extension of an existing collection of information, and to allow 60 days for public comment in response to the notice. This notice solicits comments on the information collection requirements relating to the information collection requirements contained in consumer assessment surveys that are used by AoA to measure program performance for programs funded under Title III of the Older Americans Act.

DATES: Submit written or electronic comments on the collection of information by July 12, 2010.

ADDRESSES: Submit electronic comments on the collection of information to: valerie.cook@aoa.hhs.gov. Submit written comments on the collection of information to Valerie Cook, Administration on Aging, Office of Evaluation, Washington, DC 20201.

FOR FURTHER INFORMATION CONTACT: Valerie Cook 202-357-3583.

SUPPLEMENTARY INFORMATION: Under the PRA (44 U.S.C. 3501-3520), Federal agencies must obtain approval from the Office of Management and Budget (OMB) for each collection of information they conduct or sponsor. “Collection of information” is defined in 44 U.S.C. 3502(3) and 5 CFR 1320.3(c) and includes agency request or requirements that members of the public submit reports, keep records, or provide information to a third party. Section 3506(c)(2)(A) of the PRA (44 U.S.C. 3506(c)(2)(A)) requires Federal agencies to provide a 60-day notice in the Federal Register concerning each proposed collection of information, including each proposed extension of an existing collection of information, before submitting the collection to OMB for approval. To comply with this requirement, AoA is publishing notice of the proposed collection of information set forth in this document. With respect to the following collection of information, AoA invites comments on: (1) Whether the proposed collection of information is necessary for the proper performance of AoA's functions, including whether the information will have practical utility; (2) the accuracy of AoA's estimate of the burden of the proposed collection of information, including the validity of the methodology and assumptions used; (3) ways to enhance the quality, utility, and clarity of the information to be collected; and (4) ways to minimize the burden of the collection of information on respondents, including through the use of automated collection techniques when appropriate, and other forms of information technology.

The National Survey of Older Americans Act (OAA) Title III Service Recipients information collection, which builds on earlier national pilot studies and surveys, as well as performance measurement tools developed by AoA grantees in the Performance Outcomes Measures Project (POMP), will include consumer assessment surveys for the Congregate and Home-delivered meal nutrition programs; Case Management, Homemaker, and Transportation Services; and the National Family Caregiver Support Program. This information will be used by AoA to track performance outcome measures; support budget requests; comply with Government Performance and Results Act (GPRA) reporting requirements; provide national benchmark information for POMP grantees; and inform program development and management initiatives. Descriptions of previous National Surveys of OAA Participants can be found under the section on OAA Performance Information on AoA's Web site at: http://www.aoa.gov/AoARoot/Program_Results/OAA_Performance.aspx. Copies of the survey instruments and data from previous National Surveys of OAA Participants can be found and queried using the AGing Integrated Database (AGID) at http://www.agidnet.org/. AoA estimates the burden of this collection of information as follows: Respondents: Individuals; Number of Respondents: 6,250; Number of Responses per Respondent: one; Average Burden per Response: 6000 at 30 minutes, 250 at 4 hours; Total Burden: 4,000.

Dated: May 6, 2010.
Kathy Greenlee,
Assistant Secretary for Aging.

[FR Doc. 2010-11202 Filed 5-11-10; 8:45 am]

BILLING CODE 4154-01-P